DEPARTMENT OF COMMERCE

International Trade Administration

[A-570-045, C-570-046, A-588-873, A-570-028, A-570-914, C-570-915]

1-Hydroxyethylidene-1, 1-Diphosphonic Acid From the People's Republic of China; Cold-Rolled Steel Flat Products From Japan; Hydrofluorocarbon Blends From the People's Republic of China; Light-Walled Rectangular Pipe and Tube From the People's Republic of China: Opening of Scope Segments and Opportunity To Comment

AGENCY: Enforcement and Compliance, International Trade Administration, Department of Commerce.

SUMMARY: The Department of Commerce (Commerce) received information from U.S. Customs and Border Protection (CBP) relating to the antidumping duty (AD) and countervailing duty (CVD) orders on 1-Hydroxyethylidene-1, 1-Diphosphonic Acid (HEDP) from the People's Republic of China (China); the AD order on cold-rolled steel from Japan; the AD order on hydrofluorocarbon blends (HFCs) from China; and the AD and CVD orders on light-walled rectangular pipe and tube from China. Commerce is providing notice that it is opening scope segments in each proceeding in order to place this information on the record of the respective cases, and provide an opportunity for interested parties to comment.

DATES: Applicable April 2, 2018.

FOR FURTHER INFORMATION CONTACT: Omar Qureshi at (202) 482-5307 (HEDP), Trisha Tran at (202) 482-4852 (cold-rolled steel), Andrew Medley at (202) 482-4987 (HFCs), or Celeste Chen at (202) 482-0890 (light-walled rectangular pipe and tube), AD/CVD Operations, Enforcement & Compliance, International Trade Administration, U.S. Department of Commerce, 1401 Constitution Avenue NW, Washington, DC 20230.

SUPPLEMENTARY INFORMATION:

Background

AD and CVD orders on HEDP from China: Commerce received information from CBP regarding an entry into the United States of powdered HEDP. Commerce opened a segment entitled “Powdered HEDP,” in order to place this information on the record.

AD order on certain cold-rolled steel from Japan: Commerce received information from CBP regarding entries into the United States of certain products that closely resemble merchandise subject to this order that have a manganese content of greater than 2.5 percent. Commerce opened a segment entitled “Manganese Content,” in order to place this information on the record.

AD order on HFCs from China: Commerce received information from CBP regarding entries into the United States of certain products that closely resemble merchandise subject this order. Commerce opened a segment entitled “Certain R-32/R-125 Blends,” in order to place this information on the record.

AD and CVD orders on light-walled rectangular pipe and tube from China: Commerce received information from CBP regarding entries into the United States of certain products that closely resemble merchandise subject to these orders that have a vanadium content greater than 0.15 percent. Commerce opened a segment entitled “Vanadium Content” in order to place this information on the record.

Notification to Interested Parties

Commerce is hereby notifying interested parties that it has received the information discussed above and intends to provide interested parties with the opportunity to submit comments, and, if appropriate, new factual information. Parties are invited to submit factual information and/or comment on these materials no later than April 20, 2018.

Parties are also hereby notified that this is the only notice that Commerce intends to publish in the Federal Register concerning this request for comments. Therefore, interested parties that wish to submit factual information and/or comments must submit their letters of appearance as discussed below. Further, any party desiring access to business proprietary information (BPI) must file an application on the respective proceeding segment for access to BPI under Administrative Protective Order (APO), as discussed below.

Scope of the Orders

The scope of the relevant AD and CVD orders may be found in the Appendices to this document as follows:

Appendix I: Scope of the AD and CVD Orders on HEDP from China (A-570-045 and C-570-046)

Appendix II: Scope of the AD Order on Cold-Rolled Steel Flat Products from Japan (A-588-873)

Appendix III: Scope of the AD Order on HFCs from China (A-570-028)

Appendix IV: Scope of the AD and CVD Orders on Light-Walled Rectangular Pipe and Tube from China (A-570-914 and C-570-915).

Filing Requirements

All submissions to Commerce must be filed electronically using Enforcement and Compliance's Antidumping Duty and Countervailing Duty Centralized Electronic Service System (ACCESS).¹ An electronically filed document must be received successfully in its entirety by the time and date it is due. Documents exempted from the electronic submission requirements must be filed manually (i.e., in paper form) with Enforcement and Compliance's APO/Dockets Unit, Room 18022, U.S. Department of Commerce, 1401 Constitution Avenue NW, Washington, DC 20230, and stamped with the date of receipt by the applicable deadlines.

¹ See Antidumping and Countervailing Duty Proceedings: Electronic Filing Procedures; Administrative Protective Order Procedures, 76 FR 39263 (July 6, 2011), as amended in Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/Handbook%20on%20Electronic%20Filing%20Procedures.pdf.

Letters of Appearance and Administrative Protective Order

Interested parties that wish to participate in the respective segments of the proceedings and be added to the public service list for that segment must file a letter of appearance in accordance with 19 CFR 351.103(d)(1) on the record of the appropriate segment.

Commerce placed APOs on the respective records as follows: On January 10, 2018, for the segments involving light-walled rectangular pipe and tube from China ² and cold-rolled steel flat products from Japan; ³ on January 30, 2018, for the segment involving HFCs from China; ⁴ and on February 22, 2018, for the segment involving HEDP from China.⁵ Commerce intends to place the business proprietary versions of the documents on the record of the appropriate proceeding in ACCESS within five days of publication of this notice.

² See the Administrative Protective Order “In the Matter of the Antidumping Duty Order on Cold-Rolled Steel Flat Products from Japan (A-588-873)” (Manganese Content), dated January 10, 2018.

³ See the Administrative Protective Order “In the Matter of the Antidumping Duty Order on Light-Walled Rectangular Pipe and Tube from the People's Republic of China (A-570-914 and C-570-915)” (Vanadium Content), dated January 10, 2018.

⁴ See the Administrative Protective Order “In the Matter of the Antidumping Duty Order on Hydrofluorocarbon Blends from the People's Republic of China (A-570-028)” (Certain R-32 R-125 Blends), dated January 30, 2018.

⁵ See the Administrative Protective Order “In the Matter of the Antidumping Duty Order on HEDP from the People's Republic of China (A-570-045/C-570-046)” (Powdered HEDP), dated February 22, 2018.

Interested parties must submit applications for disclosure under the APO in accordance with the procedures outlined in Commerce's regulations at 19 CFR 351.305. Those procedures apply to the respective segments of each proceeding addressed in this notice.

Dated: March 23, 2018.
Gary Taverman,
Deputy Assistant Secretary for Antidumping and Countervailing Duty Operations, performing the non-exclusive functions and duties of the Assistant Secretary for Enforcement and Compliance.

Appendix I—Scope of the AD and CVD Orders on 1-Hydroxyethylidene-1, 1-Diphosphonic Acid From China (A-570-045 and C-570-046)

The merchandise covered by these orders includes all grades of aqueous acidic (non-neutralized) concentrations of HEDP, also referred to as hydroxyethylidenendiphosphonic acid, hydroxyethanediphosphonic acid, acetodiphosphonic acid, and etidronic acid. The Chemical Abstract Service (CAS) registry number for HEDP is 2809-21-4.

The merchandise subject to these orders is currently classified in the Harmonized Tariff Schedule of the United States (HTSUS) at subheading 2931.90.9043. It may also enter under HTSUS subheadings 281.19.6090 and 2931.90.9041. While HTSUS subheadings and the CAS registry number are provided for convenience and customs purposes only, the written description of the scopes of these orders is dispositive.

Appendix II—Scope of the AD Order on Cold-Rolled Steel Flat Products From Japan (A-588-873)

The products covered by this order are certain cold-rolled (cold-reduced), flat-rolled steel products, whether or not annealed, painted, varnished, or coated with plastics or other non-metallic substances. The products covered do not include those that are clad, plated, or coated with metal. The products covered include coils that have a width or other lateral measurement (width) of 12.7 mm or greater, regardless of form of coil (e.g., in successively superimposed layers, spirally oscillating, etc.). The products covered also include products not in coils (e.g., in straight lengths) of a thickness less than 4.75 mm and a width that is 12.7 mm or greater and that measures at least 10 times the thickness. The products covered also include products not in coils (e.g., in straight lengths) of a thickness of 4.75 mm or more and a width exceeding 150 mm and measuring at least twice the thickness. The products described above may be rectangular, square, circular, or other shape and include products of either rectangular or non-rectangular cross-section where such cross-section is achieved subsequent to the rolling process, i.e., products which have been “worked after rolling” (e.g., products which have been beveled or rounded at the edges). For purposes of the width and thickness requirements referenced above:

(1) Where the nominal and actual measurements vary, a product is within the scope if application of either the nominal or actual measurement would place it within the scope based on the definitions set forth above, and

(2) where the width and thickness vary for a specific product (e.g., the thickness of certain products with non-rectangular cross-section, the width of certain products with non-rectangular shape, etc.), the measurement at its greatest width or thickness applies.

Steel products included in the scope of this order are products in which: (1) Iron predominates, by weight, over each of the other contained elements; (2) the carbon content is 2 percent or less, by weight; and (3) none of the elements listed below exceeds the quantity, by weight, respectively indicated:

• 2.50 percent of manganese, or

• 3.30 percent of silicon, or

• 1.50 percent of copper, or

• 1.50 percent of aluminum, or

• 1.25 percent of chromium, or

• 0.30 percent of cobalt, or

• 0.40 percent of lead, or

• 2.00 percent of nickel, or

• 0.30 percent of tungsten (also called wolfram), or

• 0.80 percent of molybdenum, or

• 0.10 percent of niobium (also called columbium), or

• 0.30 percent of vanadium, or

• 0.30 percent of zirconium

Unless specifically excluded, products are included in this scope regardless of levels of boron and titanium.

For example, specifically included in this scope are vacuum degassed, fully stabilized (commonly referred to as interstitial-free (IF)) steels, high strength low alloy (HSLA) steels, motor lamination steels, Advanced High Strength Steels (AHSS), and Ultra High Strength Steels (UHSS). IF steels are recognized as low carbon steels with micro-alloying levels of elements such as titanium and/or niobium added to stabilize carbon and nitrogen elements. HSLA steels are recognized as steels with micro-alloying levels of elements such as chromium, copper, niobium, titanium, vanadium, and molybdenum. Motor lamination steels contain micro-alloying levels of elements such as silicon and aluminum. AHSS and UHSS are considered high tensile strength and high elongation steels, although AHSS and UHSS are covered whether or not they are high tensile strength or high elongation steels.

Subject merchandise includes cold-rolled steel that has been further processed in a third country, including but not limited to annealing, tempering, painting, varnishing, trimming, cutting, punching, and/or slitting, or any other processing that would not otherwise remove the merchandise from the scope of the order if performed in the country of manufacture of the cold-rolled steel.

All products that meet the written physical description, and in which the chemistry quantities do not exceed any one of the noted element levels listed above, are within the scope of this order unless specifically excluded. The following products are outside of and/or specifically excluded from the scope of this order:

• Ball bearing steels; ⁶

⁶ Ball bearing steels are defined as steels which contain, in addition to iron, each of the following elements by weight in the amount specified: (i) Not less than 0.95 nor more than 1.13 percent of carbon; (ii) not less than 0.22 nor more than 0.48 percent of manganese; (iii) none, or not more than 0.03 percent of sulfur; (iv) none, or not more than 0.03 percent of phosphorus; (v) not less than 0.18 nor more than 0.37 percent of silicon; (vi) not less than 1.25 nor more than 1.65 percent of chromium; (vii) none, or not more than 0.28 percent of nickel; (viii) none, or not more than 0.38 percent of copper; and (ix) none, or not more than 0.09 percent of molybdenum.

• Tool steels; ⁷

⁷ Tool steels are defined as steels which contain the following combinations of elements in the quantity by weight respectively indicated: (i) More than 1.2 percent carbon and more than 10.5 percent chromium; or (ii) not less than 0.3 percent carbon and 1.25 percent or more but less than 10.5 percent chromium; or (iii) not less than 0.85 percent carbon and 1 percent to 1.8 percent, inclusive, manganese; or (iv) 0.9 percent to 1.2 percent, inclusive, chromium and 0.9 percent to 1.4 percent, inclusive, molybdenum; or (v) not less than 0.5 percent carbon and not less than 3.5 percent molybdenum; or (vi) not less than 0.5 percent carbon and not less than 5.5 percent tungsten.

• Silico-manganese steel; ⁸

⁸ Silico-manganese steel is defined as steels containing by weight: (i) Not more than 0.7 percent of carbon; (ii) 0.5 percent or more but not more than 1.9 percent of manganese, and (iii) 0.6 percent or more but not more than 2.3 percent of silicon.

• Grain-oriented electrical steel (GOES) as defined in the final determination of the U.S. Department of Commerce in Grain-Oriented Electrical Steel from Germany, Japan, and Poland.⁹

⁹ See Grain-Oriented Electrical Steel from Germany, Japan, and Poland: Final Determinations of Sales at Less Than Fair Value and Certain Final Affirmative Determination of Critical Circumstances, 79 FR 42501, 42503 (July 22, 2014) (Grain-Oriented Electrical Steel from Germany, Japan, and Poland). This determination defines grain-oriented electrical steel as “a flat-rolled alloy steel product containing by weight at least 0.6 percent but not more than 6 percent of silicon, not more than 0.08 percent of carbon, not more than 1.0 percent of aluminum, and no other element in an amount that would give the steel the characteristics of another alloy steel, in coils or in straight lengths.”

• Non-Oriented Electrical Steels (NOES), as defined in the antidumping orders issued by the U.S. Department of Commerce in Non-Oriented Electrical Steel from the People's Republic of China, Germany, Japan, the Republic of Korea, Sweden, and Taiwan.¹⁰

¹⁰ See Non-Oriented Electrical Steel from the People's Republic of China, Germany, Japan, the Republic of Korea, Sweden, and Taiwan: Antidumping Duty Orders, 79 FR 71741, 71741-71742 (December 3, 2014) (Non-Oriented Electrical Steel from the People's Republic of China, Germany, Japan, the Republic of Korea, Sweden, and Taiwan). The orders define NOES as “cold-rolled, flat-rolled, alloy steel products, whether or not in coils, regardless of width, having an actual thickness of 0.20 mm or more, in which the core loss is substantially equal in any direction of magnetization in the plane of the material. The term `substantially equal' means that the cross grain direction of core loss is no more than 1.5 times the straight grain direction (i.e., the rolling direction) of core loss. NOES has a magnetic permeability that does not exceed 1.65 Tesla when tested at a field of 800 A/m (equivalent to 10 Oersteds) along (i.e., parallel to) the rolling direction of the sheet (i.e., B800 value). NOES contains by weight more than 1.00 percent of silicon but less than 3.5 percent of silicon, not more than 0.08 percent of carbon, and not more than 1.5 percent of aluminum. NOES has a surface oxide coating, to which an insulation coating may be applied.”

Also excluded from the scope of this order is ultra-tempered automotive steel, which is hardened, tempered, surface polished, and meets the following specifications:

• Thickness: less than or equal to 1.0 mm;

• Width: less than or equal to 330 mm;

• Chemical composition:

Element | C | Si | Mn | P | S
Weight % | 0.90-1.05 | 0.15-0.35 | 0.30-0.50 | Less than or equal to 0.03 | Less than or equal to 0.006.

• Physical properties:

Width less than or equal to 150 mm | Flatness of less than 0.2% of nominal strip width.
Width of 150 to 330 mm | Flatness of less than 5 mm of nominal strip width.

• Microstructure: Completely free from decarburization. Carbides are spheroidal and fine within 1% to 4% (area percentage) and are undissolved in the uniform tempered martensite;

• Surface roughness: less than or equal to 0.80 to µm Rz;

• Non-metallic inclusion:

○ Sulfide inclusion less than or equal to 0.04% (area percentage);

○ Oxide inclusion less than or equal to 0.05% (area percentage); and

• The mill test certificate must demonstrate that the steel is proprietary grade “PK” and specify the following:

○ The exact tensile strength, which must be greater than or equal to 1600 N/mm2;

• The exact hardness, which must be greater than or equal to 465 Vickers hardness number;

• The exact elongation, which must be between 2.5% and 9.5%; and

• Certified as having residual compressive stress within a range of 100 to 400 N/mm2.

Also excluded from the scope of this order is certain cold-rolled flat-rolled steel meeting the requirements of ASTM A424 Type 1 and having each of the following characteristics:

• Continuous annealed cold-reduced steel in coils with a thickness of between 0.30 mm and 0.36 mm that is in widths either from 875 mm to 940 mm or from 1,168 to 1,232 mm;

• a chemical composition, by weight, of:

○ Not more than 0.004% carbon;

○ not more than 0.010% aluminum;

○ 0.006%-0.010% nitrogen;

○ 0.012%-0.030% boron;

○ 0.010%-0.025% oxygen;

○ less than 0.002% of titanium;

○ less than 0.002% by weight of vanadium;

○ less than 0.002% by weight of niobium;

○ less than 0.002% by weight of antimony;

• a yield strength of from 179.3 MPa to 344.7 MPa;

• a tensile strength of from 303.7 MPa to 413.7 MPa;

• a percent of elongation of from 28% to 46% on a standard ASTM sample with a 5.08 mm gauge length;

• a product shape of flat after annealing, with flat defined as less than or equal to 1 I unit with no coil set as set forth in ASTM A568, Appendix X5 (alternate methods for expressing flatness).

The products subject to this order are currently classified in the Harmonized Tariff Schedule of the United States (HTSUS) under item numbers: 7209.15.0000, 7209.16.0030, 7209.16.0060, 7209.16.0070, 7209.16.0091, 7209.17.0030, 7209.17.0060, 7209.17.0070, 7209.17.0091, 7209.18.1530, 7209.18.1560, 7209.18.2510, 7209.18.2520, 7209.18.2580, 7209.18.6020, 7209.18.6090, 7209.25.0000, 7209.26.0000, 7209.27.0000, 7209.28.0000, 7209.90.0000, 7210.70.3000, 7211.23.1500, 7211.23.2000, 7211.23.3000, 7211.23.4500, 7211.23.6030, 7211.23.6060, 7211.23.6090, 7211.29.2030, 7211.29.2090, 7211.29.4500, 7211.29.6030, 7211.29.6080, 7211.90.0000, 7212.40.1000, 7212.40.5000, 7225.50.6000, 7225.50.8080, 7225.99.0090, 7226.92.5000, 7226.92.7050, and 7226.92.8050. The products subject to the order may also enter under the following HTSUS numbers: 7210.90.9000, 7212.50.0000, 7215.10.0010, 7215.10.0080, 7215.50.0016, 7215.50.0018, 7215.50.0020, 7215.50.0061, 7215.50.0063, 7215.50.0065, 7215.50.0090, 7215.90.5000, 7217.10.1000, 7217.10.2000, 7217.10.3000, 7217.10.7000, 7217.90.1000, 7217.90.5030, 7217.90.5060, 7217.90.5090, 7225.19.0000, 7226.19.1000, 7226.19.9000, 7226.99.0180, 7228.50.5015, 7228.50.5040, 7228.50.5070, 7228.60.8000, and 7229.90.1000. The HTSUS subheadings above are provided for convenience and U.S. Customs and Border Protection purposes only. The written description of the scope of the order is dispositive.

Appendix III—Scope of the AD Order on HFCs From China (A-570-028)

The products subject to this order are HFC blends. HFC blends covered by the scope are R-404A, a zeotropic mixture consisting of 52 percent 1,1,1 Trifluoroethane, 44 percent Pentafluoroethane, and 4 percent 1,1,1,2-Tetrafluoroethane; R-407A, a zeotropic mixture of 20 percent Difluoromethane, 40 percent Pentafluoroethane, and 40 percent 1,1,1,2-Tetrafluoroethane; R-407C, a zeotropic mixture of 23 percent Difluoromethane, 25 percent Pentafluoroethane, and 52 percent 1,1,1,2-Tetrafluoroethane; R-410A, a zeotropic mixture of 50 percent Difluoromethane and 50 percent Pentafluoroethane; and R-507A, an azeotropic mixture of 50 percent Pentafluoroethane and 50 percent 1,1,1-Trifluoroethane also known as R-507. The foregoing percentages are nominal percentages by weight. Actual percentages of single component refrigerants by weight may vary by plus or minus two percent points from the nominal percentage identified above.¹¹

¹¹ R-404A is sold under various trade names, including Forane® 404A, Genetron® 404A, Solkane® 404A, Klea® 404A, and Suva®404A. R-407A is sold under various trade names, including Forane® 407A, Solkane® 407A, Klea®407A, and Suva®407A. R-407C is sold under various trade names, including Forane® 407C, Genetron® 407C, Solkane® 407C, Klea® 407C and Suva® 407C. R- 410A is sold under various trade names, including EcoFluor R410, Forane® 410A, Genetron® R410A and AZ-20, Solkane® 410A, Klea® 410A, Suva® 410A, and Puron®. R-507A is sold under various trade names, including Forane® 507, Solkane® 507, Klea®507, Genetron®AZ-50, and Suva®507. R-32 is sold under various trade names, including Solkane®32, Forane®32, and Klea®32. R-125 is sold under various trade names, including Solkane®125, Klea®125, Genetron®125, and Forane®125. R-143a is sold under various trade names, including Solkane®143a, Genetron®143a, and Forane®125.

Any blend that includes an HFC component other than R-32, R-125, R-143a, or R-134a is excluded from the scope of this order.

Excluded from this order are blends of refrigerant chemicals that include products other than HFCs, such as blends including chlorofluorocarbons (CFCs), hydrochlorofluorocarbons (HCFCs), hydrocarbons (HCs), or hydrofluoroolefins (HFOs).

Also excluded from this order are patented HFC blends, including, but not limited to, ISCEON® blends, including MO99TM (R-438A), MO79 (R-422A), MO59 (R-417A), MO49PlusTM (R-437A) and MO29TM (R-4 22D), Genetron® PerformaxTM LT (R-407F), Choice® R- 421A, and Choice® R-421B.

HFC blends covered by the scope of this order are currently classified in the Harmonized Tariff Schedule of the United States (HTSUS) at subheadings 3824.78.0020 and 3824.78.0050. Although the HTSUS subheadings are provided for convenience and customs purposes, the written description of the scope is dispositive.

Appendix IV—Scope of the AD and CVD Orders on Light-Walled Rectangular Pipe and Tube From China (A-570-914 and C-570-915)

The merchandise subject to these orders is certain welded carbon quality light-walled steel pipe and tube, of rectangular (including square) cross section, having a wall thickness of less than 4 mm. The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope. The welded carbon-quality rectangular pipe and tube subject to these orders is currently classified under the Harmonized Tariff Schedule of the United States (HTSUS) subheadings 7306.61.50.00 and 7306.61.70.60. While HTSUS subheadings are provided for convenience and Customs purposes, our written description of the scope of these orders is dispositive.

[FR Doc. 2018-06607 Filed 3-30-18; 8:45 am]

BILLING CODE 3510-DS-P